DEPARTMENT OF HEALTH AND HUMAN SERVICES

Indian Health Service

Funding Opportunity for Indians Into Medicine (InMed)

Announcement Type: New.

Funding Announcement Number: HHS-2024-IHS-INMED-0001.

Assistance Listing (Catalog of Federal Domestic Assistance or CFDA) Number: 93.970.

Key Dates

Application Deadline Date: May 14, 2024.

Earliest Anticipated Start Date: July 1, 2024.

I. Step 1: Review the Opportunity

Funding Details

Type: Grant.

Competition type: New.

Expected total program funding: $1,461,104.

Expected number of awards: 4.

Funding range per award for the first budget year: $230,000 to $700,000.

The period of performance is for 5 years.

Continuation funding depends on the availability of funds and agency budget priorities.

Eligibility—Who Can Apply

Eligible Applicants

Only the following type of organization may apply:

A public or nonprofit private college or university that:

1. Has a medical or other allied health program, other than a nursing program.

2. Is accredited by an accrediting agency recognized by the U.S. Secretary of Education.

3. Has a target population for its proposed program that does not include Indian Tribes within the states of North Dakota, South Dakota, Nebraska, Wyoming, and Montana. The existing University of North Dakota InMed grant program serves these states.

Other Eligibility Criteria

We do not fund concurrent projects under this program. If you get an award under this announcement, we cannot fund you under other InMed programs while this award is active. Individuals, including sole proprietorships, and foreign organizations are not eligible.

Cost Sharing or Matching

This program has no cost-sharing requirement.

If you choose to include cost-sharing funds, we will not consider it during our review. However, we will hold you accountable for any funds you add, including through reporting.

Program Description

Background

The Indian Health Service (IHS) is responsible for providing federal health services to the American Indian and Alaska Native (AI/AN) people. Our mission is to raise the physical, mental, social, and spiritual health of AI/ANs to the highest level.

The Indian Healthcare Improvement Act (https://www.ihs.gov/IHCIA/), Public Law 94-437. 25 U.S.C. 1616g (https://www.govinfo.gov/content/pkg/USCODE-2022-title25/html/USCODE-2022-title25-chap18-subchapI-sec1616g.htm) authorizes the IHS to administer programs designed to attract and recruit qualified Indians into health professions and to ensure the availability of health professionals to serve the AI/AN population.

Purpose

The purpose of this program is to add to the number of Indian health professionals serving Indians by encouraging Indians to enter the health professions and removing barriers to serving Indians.

Allowable Activities

1. Provide outreach and recruitment of people to serve Indian communities in the health professions. Include recruitment and outreach at elementary and secondary schools as well as community colleges located on Indian reservations that your program will serve.

2. Incorporate a program advisory board of representatives from the Tribes and communities you will serve.

3. Provide summer preparatory programs for Indian students who need enrichment in the subjects of math and science needed to pursue training in the health professions.

4. Provide tutoring, counseling, and support to students who are enrolled in a health career program of study at your college or university.

5. Employ qualified Indians in the program, to the maximum extent feasible. Describe the college or university's ability to meet this requirement.

6. Address the opioid crisis, which is an HHS priority, by educating and training students in opioid addiction prevention, treatment, and recovery.

Funding Policies and Limitations

Limitations

• We allow pre-award costs up to 90 days before the start date of the award provided the costs would be allowable if awarded. Pre-award costs are incurred at the risk of the applicant.

Policies

• The available funding level of between $230,000 and $700,000 is inclusive of both direct and indirect costs.

• You may include as a direct cost support costs related to tutoring, counseling, and support for students enrolled in a health career program of study at the respective college or university.

• We do not allow tuition and stipends for regular sessions under the grant; however, students recruited through the InMed program may apply for funding from the IHS Scholarship Programs.

• Each applicant can receive only one award under this announcement.

Indirect Costs

Indirect costs are those incurred for a common or joint purpose across more than one project and that cannot be easily separated by project. Learn more at 45 CFR 75.414 (https://www.ecfr.gov/current/title-45/subtitle-A/subchapter-A/part-75/subpart-E/subject-group-ECFR1eff2936a9211f7/section-75.414), Indirect Costs. Indirect costs for training awards cannot exceed 8 percent of modified total direct costs. To understand what is included in modified total direct costs, see 45 CFR 75.2 (https://www.ecfr.gov/current/title-45/subtitle-A/subchapter-A/part-75#p-75.2(Modified%20Total%20Direct%20Cost)).

Statutory Authority

The Indian Healthcare Improvement Act, (https://www.ihs.gov/IHCIA/), Public Law 94-437. 25 U.S.C. 1616g (https://www.govinfo.gov/content/pkg/USCODE-2022-title25/html/USCODE-2022-title25-chap18-subchapI-sec1616g.htm).

II. Step 2: Get Ready To Apply

Get Registered

System for Award Management

You must have an active account with SAM.gov. This includes having a Unique Entity Identifier. SAM.gov registration can take several weeks. Begin that process today.

To register, go to SAM.gov Entity Registration (https://sam.gov/content/entity-registration) and click Get Started. From the same page, you can also click on the Entity Registration Checklist for the information you will need to register.

Grants.gov

You must also have an active account with Grants.gov (https://grants.gov/home). You can see step-by step instructions at the Grants.gov Quick Start Guide for Applicants (https://www.grants.gov/quick-start-guide/applicants).

Find the Application Package

The application package has all the forms you need to apply. You can find it online. Go to Grants Search at Grants.gov (https://grants.gov/home) and search for opportunity number HHS-2024-IHS-INMED-0001.

III. Step 3: Write Your Application

Application Contents and Format

Applications include five main components. This section includes guidance on each. Make sure you include each of these:

Component | Submission form
Project Abstract | Use the Project Abstract Summary form.
Project Narrative | Use the Project Narrative Attachment form.
Budget Narrative | Use the Budget Narrative Attachment form.
Attachments | Insert each in a single Other Attachments form.
Required Forms | Upload using each required form.

Project Abstract

Page limit: 1 page.

Provide a self-contained summary of your proposed project, including the purpose and expected outcomes. Do not include any proprietary or confidential information. We use this information when we receive public information requests about funded projects.

Required format for Project and Budget Narrative:

Font size: 12-point font. Footnotes, tables, and text in graphics may be 10-point.

Font color: black.

Spacing: Single-spaced.

Margins: 1-inch.

Size: 8.5 by 11 inches.

Include consecutive page numbers.

Formats: While the forms for project and budget narratives are PDF, you may upload Word, Excel, or PDF files to those forms.

Project Narrative

Page limit: 25 pages.

Filename: Project narrative.

To create your project narrative:

• Follow the headings in the table below in order.

• Use the merit review criteria to determine what you need to include.

• Describe your proposed project and activities for the full period of performance.

• Stay within the page limit, or we will remove pages beyond that. We recommend some page limits for subsections below, but they are guidance only.

Heading | Recommended page length
Introduction and need for assistance | 1 to 2
Project objectives, work plan, and approach | 7 to 9
Program evaluation | 5 to 7
Organization capabilities, key personnel, and qualifications | 6 to 7

Budget Narrative

Page limit: 5.

Filename: Budget narrative.

The budget narrative supports the information you provide in Standard Form 424-A. See standard forms.

For more guidance on what to include in your budget narrative, see merit review criteria.

It includes added detail and justifies the costs you ask for. As you develop your budget, consider:

• If the costs are reasonable and consistent with your project's purpose and activities.

• The restrictions on spending funds. See funding policies & limitations.

To create your budget narrative:

• Show each line item in your SF-424A, organized by budget category.

• Provide the information for the entire period of performance, broken down by year.

For each line item, describe:

• How the costs support achieving the project's proposed objectives.

• How you calculated or arrived at the cost.

Take care to explain each item in the “other” category and why you need it.

Do not use the budget narrative to expand your project narrative.

If you like, you can also include a spreadsheet that provides more detail than in the SF-424A. If you do, we will not count it against the page limit.

Budget Justification for Conferences

You must provide a separate detailed budget justification for each conference anticipated.

In your justification, you must address these cost categories:

• Contract or planner

• Meeting space or venue

• Registration website

• Audiovisual

• Speakers fees

• Non-Federal attendee travel

• Registration fees

• Other

Attachments

You will upload attachments in Grants.gov using a single Other Attachments Form. Unless stated below, these attachments do not have page limits.

Work Plan Chart

Attach a one-page work plan chart or timetable that summarizes the work plan in your project description, outlining your activities and outcomes. See merit review criteria for detailed instructions.

Proof of Nonprofit Status

If your organization is a nonprofit, you need to attach proof. We will accept any of the following:

• A copy of a current tax exemption certificate from the IRS.

• A letter from your state's tax department, attorney general, or another state official saying that your group is a nonprofit and that none of your net earnings go to private shareholders or others.

• A certified copy of your certificate of incorporation. This document must show that your group is a nonprofit.

• Any of the above for a parent organization. Also include a statement signed by an official of the parent group that your organization is a nonprofit affiliate.

Indirect Cost Agreement

If you include indirect costs in your budget using an approved rate, include a copy of your current agreement approved by your cognizant agency for indirect costs (https://www.ecfr.gov/current/title-45/subtitle-A/subchapter-A/part-75#p-75.2(Cognizant%20agency%20for%20indirect%20costs)). If you use the de minimis rate, you do not need to submit this attachment.

Resumes and Position Descriptions

For key personnel, attach biographical sketches for filled positions. For unfilled positions, attach a short description of the position and qualifications. See additional instructions in merit review criteria.

Letter of Support

Attach letters of support from organization's Board of Directors.

Audit Documentation

You must provide documentation of required audits. You can submit:

• Email confirmation from the Federal Audit Clearinghouse (FAC) showing that you submitted the audits.

• Face sheets from audit reports. You can find these on the FAC website (https://www.fac.gov/).

• See audit requirements at 45 CFR part 75 subpart F (https://www.ecfr.gov/current/title-45/subtitle-A/subchapter-A/part-75/subpart-F).

Other Required Forms

You will need to complete some standard forms. Upload the standard forms listed below at Grants.gov. You can find them in the NOFO application package or review them and their instructions at Grants.gov Forms.

Forms | Submission requirement
Application for Federal Assistance (SF-424) | With application.
Budget Information for Non-Construction Programs (SF-424A) | With application.
Grants.gov Lobbying Form | With application.
Disclosure of Lobbying Activities (SF-LLL) | If applicable, with the application.

IV. Step 4: Learn About Review and Award

Application Review

Initial Review

We review each application to make sure it meets basic requirements. We will not consider an application that:

• Is from an organization that does not meet all eligibility criteria.

• Is incomplete.

• Requests funding above the award ceiling shown in the funding range.

• Requests a period of performance longer than this NOFO allows.

• Is submitted after the deadline.

• Also, we will not review any pages over the page limit.

Merit Review

The review committee reviews all applications that pass the initial review. The members use the criteria below.

We will send your authorized official an Executive Summary Statement within 30 days after we complete reviews. This statement will outline the strengths and weaknesses of your application.

The following criteria also provide guidance on what to provide in your project narrative and your budget and budget narrative.

Criteria

Criterion | Total number of points = 100
1. Introduction and need for assistance | 10
2. Project objectives, work plan, and approach | 40
3. Program evaluation | 30
4. Organizational capabilities, key personnel, and qualifications | 15
5. Support Requested | 5

The panel will assess the quality of your responses and soundness of your approaches to the following project narrative sections.

1. Introduction and Need for Assistance

Maximum Points: 10

a. Describe why this project is needed for the population you plan to serve.

b. Explain how your approach is significant to the needs of Indian People.

2. Project Objectives, Work Plan, and Approach

Maximum Points: 40

a. Project objectives

(1) State specific objectives of the project, and the extent to which they are measurable and quantifiable, logical, complete, and consistent with the purpose of 25 U.S.C. 1616g (https://www.govinfo.gov/content/pkg/USCODE-2022-title25/html/USCODE-2022-title25-chap18-subchapI-sec1616g.htm).

(2) Describe briefly what you intend for the project to accomplish. Identify the results, benefits, and outcomes or products expected from each project objective you list in the previous section.

b. Work plan

(1) In your attachments, provide a work plan that lists:

(a) each objective

(b) the planned tasks needed to reach the objective

(c) the time to accomplish each task

(d) challenges

(e) a place to record accomplished tasks in the future

(2) Project your time frames in a realistic manner to ensure that you can complete the scope of work within each 12-month budget period.

c. Approach

(1) Identify the target Indian population to be served by your proposed project and the relationship of your organization to that population.

(2) Describe the methodology you will use to access the target population.

(3) Develop a strategy to recruit AI/AN students with the potential for completing education or training in the health professions successfully.

(4) Indicate the number of potential Indian students you plan to contact and recruit as well as potential cost per student recruited. We will give first consideration to those projects that have the potential to serve a greater number of Indians.

(5) Describe your methodology to locate and recruit students with educational potential in a variety of health care fields. Include primary recruitment efforts in other allied health fields such as pharmacy, dentistry, medical technology, x-ray technology, etc. We exclude the nursing field from this grant program.

(6) In the case of proposed projects to identify Indians with a potential for education or training in the health professions, include a method for assessing the potential of interested Indians for undertaking necessary education or training in such health professions.

(7) Provide data and supporting documentation to substantiate the need for recruitment.

3. Program Evaluation

Maximum Points: 30

a. State clearly the criteria you will use to evaluate the project's progress and success.

b. Explain the methodology you will use to determine if the project is meeting your needs, goals, and objectives and if the project is achieving the identified results and benefits.

c. Identify who will perform the evaluation and when.

d. Provide information on how you will obtain, analyze, and store recruitment and retention data. Specifically, provide information on how you will securely house data on participants, including any sensitive Personally Identifiable Information (PII).

4. Organizational Capabilities, Key Personnel, and Qualifications

Maximum Points: 15

a. Provide an organizational chart and describe the administrative, managerial, and organization arrangements, and the facilities and resources you will use to conduct the proposed project.

b. For your proposed staff, provide:

(1) The name and qualifications of the project director or other people responsible for conducting the project;

(2) The qualifications of the principal staff carrying out the project;

(3) A description of the way your staff is or will be organized and supervised to carry out the proposed project.

c. List the key personnel who will work with the program. Explain who will be writing the progress report. In your attachments, you will also include the position descriptions and resumes of the program director and key staff with duties and experience.

d. Describe any prior experience in administering similar projects.

e. Describe the current and proposed participation of Indians, if any, in your organization.

f. Identify existing university tutoring, counseling, and student support services.

g. Identify existing or pursued affiliation agreements with Tribal community colleges, the IHS, university-affiliated programs, and other appropriate entities to enhance the education of Indian students.

h. Discuss the commitment of the organization. Although not required, this might include the level of non-federal support. List your intended financial participation, if any, in the proposed project. Specify the type of contributions such as cash or services and loans of full or part-time staff, equipment, space, materials or facilities or other contributions.

5. Budget and Budget Justification

Maximum Points: 5

a. Clearly define the budget in your Budget Information for Non-Construction Programs (SF-424A).

b. In the Budget Narrative Attachment Form, provide a justification and detailed breakdown of the funding by category for the first year of the project. Information on the project director and project staff should include salaries and percentage of time assigned to the grant. List equipment assigned to the grant. List equipment purchases necessary to conduct the project. See budget narrative.

c. Provide budgetary information for summer preparatory programs for Indian students, who need enrichment in the subjects of math and science to pursue training in the health professions.

Risk Review

Before making an award, we review the risk that you will not prudently manage federal funds. We need to make sure you've handled any past federal awards well and demonstrated sound business practices. We use SAM.gov Responsibility/Qualification (https://sam.gov/content/entity-information) to check this history for all awards likely to be over $250K. You can comment on your organization's information in SAM.gov. We will consider your comments before making a decision about your level of risk.

If we find a significant risk, we may choose not to fund your application or to place specific conditions on the award.

For more details, see 45 CFR 75.205 (https://www.ecfr.gov/current/title-45/subtitle-A/subchapter-A/part-75/subpart-C/section-75.205).

Selection Process

When making funding decisions, we consider:

• Merit review results. These are key in making decisions but are not the only factor.

• The larger portfolio of agency-funded projects, including the diversity of project types and geographic distribution.

• The past performance of the applicant. We may choose not to fund applicants with management or financial problems.

We may:

• Fund applications in whole or in part.

• Fund applications at a lower amount than requested.

• Decide not to allow a prime recipient to subaward if they may not be able to monitor and manage subrecipients properly.

• Choose to fund no applications under this NOFO.

Award Notices

After we review and select applications for award, we will let you know the outcome.

Unsuccessful Applications

We will email you or write you a letter if your application is disqualified or unsuccessful.

Approved But Unfunded Applications

It is possible that we could approve your application, but do not have enough funds to reach it. If so, we will hold your application for one year. If funding becomes available during the year, we may reconsider funding.

Approved Applications

If you are successful, we will create a Notice of Award (NoA). You will need a GrantSolutions user account (https://www.grantsolutions.gov/home/getting-started-request-a-user-account/) to retrieve your NoA.

The NoA is the only official award document. The NoA tells you about the amount of the award, important dates, and the terms and conditions you need to follow. Until you receive the NoA, you do not have permission to start work.

V. Step 5: Submit Your Application

Application Submission and Deadlines

See find the application package to make sure you have everything you need. Make sure you are current with SAM.gov and UEI requirements. See get registered (https://sam.gov/content/entity-registration). You will have to maintain your registration throughout the life of any award.

Application Deadline

You must submit your application by May 14, 2024, at 11:59 p.m. ET.

Grants.gov creates a date and time record when it receives the application. If you submit the same application more than once, we will accept the last on-time submission.

The grants management officer may extend an application due date based on emergency situations such as documented natural disasters or a verifiable widespread disruption of electric or mail service.

Application Submission

You must submit your application through Grants.gov. See get registered (https://sam.gov/content/entity-registration).

For instructions on how to submit in Grants.gov, see the Quick Start Guide for Applicants (https://www.grants.gov/quick-start-guide/applicants). Make sure that your application passes the Grants.gov validation checks or we may not get it. Do not encrypt, zip, or password protect any files. The link above will also help you learn how to create PDFs.

See contacts & support if you need help.

Exemptions

If you cannot submit through Grants.gov, you must request a waiver before the application due date. Send your waiver request to DGM@ihs.gov. Include clear justification for the need to deviate from the required application submission process. Failure to register in SAM.gov or Grants.gov in a timely way is not cause for a waiver. We will not accept applications outside of Grants.gov without an approved waiver.

We will email you if we approve your waiver. This notification will include submission instructions. If approved, we must receive your application by 5:00 p.m. ET on the application deadline.

Other Submissions

Intergovernmental Review

This NOFO is not subject to executive order 12372, Intergovernmental Review of Federal Programs. No action is needed.

Mandatory Disclosure

You must submit any information related to violations of federal criminal law involving fraud, bribery, or gratuity violations potentially affecting the federal award. See Mandatory Disclosures, 45 CFR 75.113 (https://www.ecfr.gov/current/title-45/subtitle-A/subchapter-A/part-75/subpart-B/section-75.113).

Send written disclosures to IHS at DGM@ihs.gov and to the Office of Inspector General at grantdisclosures@oig.hhs.gov. Include “Mandatory Grant Disclosures” in subject line.

Application Checklist

Make sure you have everything you need to apply:

Component | How to upload | Page limit
☐ Project Abstract | Use the Project Abstract Summary form | 1 page.
☐ Project Narrative | Use the project Narrative Attachment form | 25 pages.
☐ Budget Narrative | Use the Budget Narrative Attachment form | 5 pages.
Attachments | Insert each in a single Other Attachments form
☐ Tribal resolution |  | None.
☐ Work plan chart |  | 1 page.
☐ Proof of nonprofit status |  | None.
☐ Indirect cost agreement |  | None.
☐ Resumes and position descriptions |  | None.
☐ Letter of support |  | None.
☐ Audit documentation |  | None.
Other Required Forms (3 total) | Upload using each required form
☐ Application for Federal Assistance (SF-424) |  | None.
☐ Budget Information for Non-Construction Programs (SF-424A) |  | None.
☐ Grants.gov Lobbying Form |  | None.
☐ Disclosure of Lobbying Activities (SF-LLL) |  | None.

VIII. Step 6: Learn What Happens After Award

Post-Award Requirements and Administration

Administrative and National Policy Requirements

There are important rules you need to know if you get an award. You must follow:

• All terms and conditions in the Notice of Award.

• The regulations listed in 45 CFR part 75, Uniform Administrative Requirements, Cost Principles, and Audit Requirements for HHS Awards (https://www.ecfr.gov/current/title-45/subtitle-A/subchapter-A/part-75).

• The HHS Grants Policy Statement (GPS) (https://www.hhs.gov/sites/default/files/grants/grants/policies-regulations/hhsgps107.pdf). This document has terms and conditions tied to your award. If there are any exceptions to the GPS, they will be listed in your Notice of Award.

• All federal statutes and regulations relevant to federal financial assistance, including those highlighted in the HHS Administrative and National Policy Requirements (https://www.hhs.gov/sites/default/files/hhs-administrative-national-policy-requirements.pdf).

Reporting

If you are successful, you will have to submit financial and performance reports and possibly reports on specific types of activities. Your NoA will outline the specific requirements and deadlines. To learn more about reporting, see:

• Performance Progress Reports

• Progress Report Requirements

• Financial Reporting

If your award includes funds for a conference, you must submit a report for all conferences.

If you do not submit your reports on time, we could:

• Suspend or terminate your award

• Withhold payments

• Move you to a reimbursement payment method

• Withhold future awards

• Take other enforcement actions

• Impose special award conditions if the situation continues

Non-Discrimination and Assurance

If you receive an award, you must follow all applicable nondiscrimination laws. You agree to this when you register in SAM.gov. You must also submit an Assurance of Compliance (HHS-690) (https://www.hhs.gov/sites/default/files/form-hhs690.pdf). To learn more, see the Laws and Regulations Enforced by the HHS Office for Civil Rights (https://www.hhs.gov/civil-rights/for-providers/laws-regulations-guidance/laws/index.html).

VI. Contacts and Support

Agency Contacts

1. Program and Eligibility, Correy Ahhaitty, Correy.Ahhaitty@ihs.gov, 301-443-2544.

2. Grants Management and Financial, DGM@ihs.gov.

Grants.gov

Grants.gov provides 24/7 support. You can call 1-800-518-4726 or email support@grants.gov. Hold on to your ticket number.

If problems persist, contact the Office of Grants Management at DGM@ihs.gov. Please do so at least 10 days before the application due date.

SAM.gov

If you need help, you can call 866-606-8220 or live chat with the Federal Service Desk (https://www.fsd.gov/gsafsd_sp).

GrantSolutions

For help, please contact the GrantSolutions help desk at 866-577-0771, or by email at help@grantsolutions.gov.

Reference Websites

• U.S. Department of Health and Human Services (HHS) (https://www.hhs.gov/)

• Division of Grants Management | Indian Health Service (IHS) (https://www.ihs.gov/dgm/index.cfm?module=dsp_dgm_funding)

• Grants Training Tools | Division of Grants Management (ihs.gov) (https://www.ihs.gov/dgm/training1/)

• Code of Federal Regulations (CFR) (https://www.ecfr.gov/)

• United States Code (U.S.C.) (https://uscode.house.gov/)

Roselyn Tso,
Director, Indian Health Service.

[FR Doc. 2024-05051 Filed 3-8-24; 8:45 am]

BILLING CODE 4166-14-P